DEPARTMENT OF AGRICULTURE

Forest Service

Sequoia National Forest, California; Tobias Forest Ecosystem Restoration Project

AGENCY: Forest Service, USDA.

ACTION: Notice of intent to prepare an environmental impact statement.

SUMMARY: The Forest Service proposes ecological restoration in the Tobias Forest Ecosystem Restoration Project (Tobias Project) by encouraging a healthy and diverse forest ecosystem that is resilient to the effects of wildfire, drought, disease, and other disturbances. The Tobias Project is located in the Greenhorn Mountains on the Western Divide Ranger District, between Alta Sierra and Johnsondale in Tulare County, California. This project includes commercially thinning stands of mature trees (smaller than 30 inches diameter at breast height) to increase heterogeneity and resilience on 960 acres. An additional 3,300 acres are proposed for hand thinning of immature trees. To restore the historic species composition, areas selected for thinning would favor Jeffrey and sugar pines, oak, and other shade intolerant species.

DATES: Comments concerning the scope of the analysis must be received by September 11, 2014. The draft environmental impact statement is expected November 2014 and the final environmental impact statement is expected June 2015.

ADDRESSES: Send written comments to Rick Stevens, District Ranger, Western Divide Ranger District, 32588 Hwy 190, Springville, CA 93265. Comments may also be sent via email to comments-pacificsouthwest-sequoia@fs.fed.us, or via facsimile to (559) 539-2067.

FOR FURTHER INFORMATION CONTACT: O'Dell Tucker, Planner, Western Divide Ranger District, 32588 Hwy 190, Springville, CA 93265.

Individuals who use telecommunication devices for the deaf (TDD) may call the Federal Information Rely Service (FIRS) at 1-800-877-8339 between 8 a.m. and 8 p.m. Eastern Time, Monday through Friday.

SUPPLEMENTARY INFORMATION:

Background

A scoping letter was sent on May 8, 2013 for the proposed Tobias Forest Ecosystem Restoration Project. The Forest Service after reviewing public comments, interdisciplinary input on the proposed action, and further field surveys for soils, permanent streams, and meadows, decided to issue a Notice of Intent to prepare an Environmental Impact Statement (EIS). The decision to prepare an EIS addresses the comments received during the initial scoping period, as well as the additional resource needs and concerns discovered while conducting field surveys.

Purpose and Need for Action

The purpose of the project is to restore and maintain the forests throughout the project area to promote a healthy, diverse forest ecosystem that is resilient to the effects of wildfire, drought, disease, and other disturbances. There is a need to increase diversity in age, density, and stand structure; modify tree species composition to favor oaks and pines (Jeffrey and sugar) over incense-cedar and white fir; modify fuel conditions to reduce the risk of uncharacteristically large, stand-replacing fires; improve wildlife habitat structure for resting, roosting, denning, and nesting purposes for forest-dependent wildlife species; support local economies with sustainable and cost-effective use of any byproducts of project implementation; improve watershed conditions by decommissioning some roads when the project concludes, in addition to routine maintenance of existing roads.

Proposed Action

The proposed action includes commercial (ground skidding and skyline yarding) thinning stands of mature trees smaller than 30 inches diameter at breast height (dbh) to increase heterogeneity and resilience on 960 acres. An additional 3,300 acres are proposed for hand thinning of immature trees less than 10 inches dbh. Approximately 10 percent of the hand-thinned acreage (~350 acres) would be masticated. Areas selected for thinning and mastication would favor Jeffrey and sugar pines, oak, and other shade intolerant species, to restore the historic species composition. Prescibed fire would be introduced on the landscape after thinning and mastication are completed to reduce surface fuels and promote natural regeneration of species indigenous to the project area. Large snags and large woody debris would be protected. Riparian areas and meadows would be protected and improved. Approximately eight (8) miles of road decommissioning is proposed to improve the watershed condition, stream habitat, and water quality. The proposal also includes 450 acres of fuelbreak treatment along ridgelines.

Possible Alternatives

In addition to the proposed action, the EIS will evaluate the required No Action Alternative and an alternative that uses non-commercial treatments on the same acres as the proposed action. Other alternatives may be identified through the interdisciplinary process and public participation.

Responsible Official

The responsible official is Kevin B. Elliott, Forest Supervisor, Sequoia National Forest, 1839 South Newcomb Street, Porterville, CA 93257.

Nature of Decision To Be Made

The responsible official will decide whether to adopt and implement the proposed action, an alternative to the proposed action, or take no action with respect to the Tobias Forest Ecosystem Restoration project.

Scoping Process

This Notice of Intent intiates the scoping process which guides the development of the EIS. It is important that reviewers provide their comments at such times and in such a manner that they are useful to the agency's preparation of the enviornmental impact statement. Therefore, comments should be provided prior to the close of the comment period and should clearly articulate the reviewer's concerns and contentions.

Specific written comments are defined as comments “. . . within the scope of the proposed action, have a direct relationship to the proposed action, and must include supporting reasons for the responsible official to consider.” (36 CFR 218.2). Submission of timely, specific written comments is a prerequisite for eligibility to file an objection under the 36 CFR part 218 regulations.

Comment Requested

This project will follow the new objection procedures as directed by 36 CFR 218. The objection process provides an opportunity for members of the public who have participated in opportunities for public participation provided throughout the planning process to have any unresolved concerns receive an independent review by the Forest Service prior to a final decision being made by the responsible official. Only those who provided specific written comments during opportunities for public comment are eligible to file an objection.

Comments received in response to this solicitation, including the names and addresses of those who comment, will be part of the public record on this proposed action. Comments submitted anonymously will be accepted and considered, however anonymous comments will not provide the Agency with the ability to provide the respondent with subsequent environmental documents.

Authority: 40 CFR 1501.7 and 1508.22; Forest Service Handbook 1909.15, Section 21.

Dated: August 6, 2014.
Kevin B. Elliott,
Forest Supervisor.

[FR Doc. 2014-19005 Filed 8-11-14; 8:45 am]

BILLING CODE 3410-11-P